DEPARTMENT OF HEALTH AND HUMAN SERVICES

National Institutes of Health

Office of the Director, National Institutes of Health; Amended Notice of Meeting

Notice is hereby given of a time and room change in the meeting of the HEAL (Helping to End Addiction Long-term) Multi-Disciplinary Working Group, August 21, 2019, 08:30 a.m., to August 22, 2019, 03:45 p.m., Building 1, Wilson Hall, 1 Center Drive, Bethesda, MD 20892 which was published in the Federal Register on July 23, 2019, 84FR35402.

The meeting notice is amended to close the session on August 22, 2019, from 08:30 a.m. to 03:45 p.m. The meeting is partially closed to the public.

Dated: August 14, 2019.
Sylvia L. Neal,
Program Analyst, Office of Federal Advisory Committee Policy.

[FR Doc. 2019-17821 Filed 8-19-19; 8:45 am]

BILLING CODE 4140-01-P